DEPARTMENT OF TRANSPORTATION

Federal Transit Administration

Innovative Public Transportation Workforce Development Program (Ladders of Opportunity Initiative)

AGENCY: Federal Transit Administration (FTA), DOT.

ACTION: Notice of Funding Availability; withdrawal.

SUMMARY: This action withdraws an FTA notice of funding availability (NOFA), Innovative Public Transportation Workforce Development Program Ladders of Opportunity Initiative, published in the Federal Register on September 5, 2014 (79 FR 53095). FTA will issue a revised NOFA for this program.

DATES: Effective September 12, 2014.

FOR FURTHER INFORMATION CONTACT: Betty Jackson, Workforce Development Program Manager, Office of Research, Demonstration and Innovation, phone: (202) 366-1730, fax: (202) 366-3765, or email: betty.jackson@dot.gov. A TDD is available at 1-800-877-8339 (TDD/FIRS).

SUPPLEMENTARY INFORMATION:

Background

On September 5, 2014, FTA published an Innovative Public Transportation Workforce Development Program (Ladders of Opportunity Initiative) Notice of Funding Availability (NOFA) (79 FR 53095). The NOFA indicated that FTA was making FY 13 and prior year funds available for this effort. FTA intends to make additional funds available, providing a consolidated way for potential applicants to seek funding. Since this additional funding may have a bearing on whether a potential applicant decides to apply for funds, FTA has determined the best course of action is to withdraw the NOFA and issue a revised NOFA.

The Withdrawal

In consideration of the foregoing, the NOFA for Innovative Public Transportation Workforce Development Program (Ladders of Opportunity Initiative) is hereby withdrawn.

Therese W. McMillan,
Acting Administrator.

[FR Doc. 2014-21899 Filed 9-10-14; 4:15 pm]

BILLING CODE P